DEPARTMENT OF TRANSPORTATION

Federal Aviation Administration

14 CFR Part 39

[Docket No. FAA-2010-0941; Directorate Identifier 2010-CE-051-AD; Amendment 39-16453; AD 2010-20-18]

RIN 2120-AA64

Airworthiness Directives; Pacific Aerospace Limited Models FU24-954 and FU24A-954 Airplanes

AGENCY: Federal Aviation Administration (FAA), DOT.

ACTION: Final rule; request for comments.

SUMMARY: We are adopting a new airworthiness directive (AD) for the products listed above. This AD results from mandatory continuing airworthiness information (MCAI) issued by the aviation authority of another country to identify and correct an unsafe condition on an aviation product. The MCAI describes the unsafe condition as:

Investigation of a recent accident has indicated it is possible to exceed the aircraft aft C of G limits during parachute operations. It is the responsibility of the pilot in command to ensure that the aircraft is loaded within the approved weight and balance limitations and these limitations are not exceeded throughout the flight.

This AD requires actions that are intended to address the unsafe condition described in the MCAI.

DATES: This AD becomes effective October 18, 2010.

We must receive comments on this AD by November 12, 2010.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

Examining the AD Docket

You may examine the AD docket on the Internet at http://www.regulations.gov; or in person at the Docket Management Facility between 9 a.m. and 5 p.m., Monday through Friday, except Federal holidays. The AD docket contains this AD, the regulatory evaluation, any comments received, and other information. The street address for the Docket Office (telephone (800) 647-5527) is in the ADDRESSES section. Comments will be available in the AD docket shortly after receipt.

FOR FURTHER INFORMATION CONTACT: Karl Schletzbaum, Aerospace Engineer, FAA, Small Airplane Directorate, 901 Locust, Room 301, Kansas City, Missouri 64106; telephone: (816) 329-4146; fax: (816) 329-4090.

SUPPLEMENTARY INFORMATION:

Discussion

The Civil Aviation Authority (CAA), which is the aviation authority for New Zealand, has issued AD DCA/FU24/179, dated September 10, 2010 (referred to after this as “the MCAI”), to correct an unsafe condition for the specified products. The MCAI states:

Investigation of a recent accident has indicated it is possible to exceed the aircraft aft C of G limits during parachute operations. It is the responsibility of the pilot in command to ensure that the aircraft is loaded within the approved weight and balance limitations and these limitations are not exceeded throughout the flight.

The MCAI requires amending the airplane flight manual (AFM) to restrict maximum occupancy of the cabin aft of F.S 118.84 to 6 persons and requires doing a weight and balance calculation for any parachuting operation to ensure the aircraft center of gravity (C of G) will remain within AFM limits for the duration of the flight. You may obtain further information by examining the MCAI in the AD docket.

FAA's Determination and Requirements of the AD

This product has been approved by the aviation authority of another country, and is approved for operation in the United States. Pursuant to our bilateral agreement with this State of Design Authority, they have notified us of the unsafe condition described in the MCAI and service information referenced above. We are issuing this AD because we evaluated all information provided by the State of Design Authority and determined the unsafe condition exists and is likely to exist or develop on other products of the same type design.

Differences Between This AD and the MCAI

We have reviewed the MCAI and, in general, agree with its substance. But we might have found it necessary to use different words from those in the MCAI to ensure the AD is clear for U.S. operators and is enforceable. In making these changes, we do not intend to differ substantively from the information provided in the MCAI.

We might have also required different actions in this AD from those in the MCAI in order to follow FAA policies. Any such differences are described in a separate paragraph of the AD. These requirements take precedence over those copied from the MCAI.

FAA's Determination of the Effective Date

An unsafe condition exists that requires the immediate adoption of this AD. The FAA has found that the risk to the flying public justifies waiving notice and comment prior to adoption of this rule because a recent accident indicates it is possible to exceed the aircraft aft C of G limits during parachute-drop operations. Exceeding C of G limits could result in loss of control of the aircraft. Therefore, we determined that notice and opportunity for public comment before issuing this AD are impracticable and that good cause exists for making this amendment effective in fewer than 30 days.

Comments Invited

This AD is a final rule that involves requirements affecting flight safety, and we did not precede it by notice and opportunity for public comment. We invite you to send any written relevant data, views, or arguments about this AD. Send your comments to an address listed under the ADDRESSES section. Include “Docket No. FAA-2010-0941; Directorate Identifier 2010-CE-051-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket.

List of Subjects in 14 CFR Part 39

Air transportation, Aircraft, Aviation safety, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2010-20-18 Pacific Aerospace Limited: Amendment 39-16453; Docket No. FAA-2010-0941; Directorate Identifier 2010-CE-051-AD.

Effective Date

(a) This airworthiness directive (AD) becomes effective October 18, 2010.

Affected ADs

(b) None.

Applicability

(c) This AD applies to Pacific Aerospace Limited Models FU24-954 and FU24A-954 airplanes, all serial numbers, that are:

(1) Certificated in any category; and

(2) Modified to conduct parachute operations.

Subject

(d) Air Transport Association of America (ATA) Code 8: Leveling and Weighing.

Reason

(e) The mandatory continuing airworthiness information (MCAI) states:

Investigation of a recent accident has indicated it is possible to exceed the aircraft aft C of G limits during parachute operations. It is the responsibility of the pilot in command to ensure that the aircraft is loaded within the approved weight and balance limitations and these limitations are not exceeded throughout the flight.

The MCAI requires amending the airplane flight manual (AFM) to restrict maximum occupancy of the cabin aft of F.S 118.84 to 6 persons and requires doing a weight and balance calculation for any parachuting operation to ensure the aircraft center of gravity (C of G) will remain within AFM limits for the duration of the flight.

Actions and Compliance

(f) Unless already done, do the following actions:

(1) Before further parachute-drop operations as of October 18, 2010 (the effective date of this AD) do the following:

(i) Amend the airplane flight manual (AFM) to restrict maximum occupancy of the cabin aft of F.S 118.84 to 6 persons. This may be done by inserting a copy of this AD into the AFM adjacent to the applicable supplement for parachuting operations; and

(ii) Fabricate a placard at least 2 by 4 inches (using at least ⅛ inch letters) and install the placard in 2 places, one on each side of the aft cabin, nominally in view of all occupants as they enter and occupy the cabin which states the following: Maximum occupancy of this cabin limited to 6 persons for parachuting operations. Weight and Balance must be confirmed for each flight.

(2) Before any parachute-drop operation as of October 18, 2010 (the effective date of this AD) the weight and balance calculation must comply with the following limitations and establish that the aircraft C of G will remain within AFM limits for the duration of the flight:

(i) Use actual weights for all occupants and their equipment to do the calculation;

(ii) Account for the positions of all occupants in the calculation. Do the calculation with the occupants' (parachuting group) positions at the most aft positions that result from the rearmost members of the group sitting against the aft cabin wall and subsequent occupants located immediately forward of them, unless a means of restraint is provided to prevent the occupants moving rearwards from their normal position; and

(iii) Keep a record of the C of G determination for each parachuting operation.

FAA AD Differences

Note: This AD differs from the MCAI as follows: No differences.

Other FAA AD Provisions

(g) The following provisions also apply to this AD:

(1) Alternative Methods of Compliance (AMOCs): The Manager, Standards Office, FAA, has the authority to approve AMOCs for this AD, if requested using the procedures found in 14 CFR 39.19. Send information to ATTN: Karl Schletzbaum, Aerospace Engineer, FAA, Small Airplane Directorate, 901 Locust, Room 301, Kansas City, Missouri 64106; telephone: (816) 329-4146; fax: (816) 329-4090. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et seq.), the Office of Management and Budget (OMB) has approved the information collection requirements and has assigned OMB Control Number 2120-0056.

Related Information

(h) Refer to MCAI Civil Aviation Authority of New Zealand AD DCA/FU24/179, dated September 10, 2010, for related information.

Issued in Kansas City, Missouri, on September 21, 2010.
Patrick R. Mullen,
Acting Manager, Small Airplane Directorate, Aircraft Certification Service.

[FR Doc. 2010-24117 Filed 9-27-10; 8:45 am]

BILLING CODE 4910-13-P